DEPARTMENT OF HEALTH AND HUMAN SERVICES

National Institutes of Health

National Cancer Institute; Cancellation of Meeting

Notice is hereby given of the cancellation of the National Cancer Institute Special Emphasis Panel, April 8, 2010, 8 a.m. to April 9, 2010, 5 p.m., Hilton Washington DC/Rockville Hotel, 1750 Rockville Pike, Maryland, Rockville, MD 20852 which was published in the Federal Register on March 5, 2010, 75FR10295.

This FRN is cancelling the meeting notification due to an administrative adjustment. A new FRN will be published to provide notification of this meeting.

Dated: March 12, 2010.
Jennifer Spaeth,
Director, Office of Federal Advisory Committee Policy.

[FR Doc. 2010-6128 Filed 3-19-10; 8:45 am]

BILLING CODE 4140-01-P